DEPARTMENT OF AGRICULTURE

Animal and Plant Health Inspection Service

[Docket No. APHIS-2012-0004]

Notice of Decision To Authorize the Importation of Fresh Barhi Dates From Israel

AGENCY: Animal and Plant Health Inspection Service, USDA.

ACTION: Notice.

SUMMARY: We are advising the public of our decision to authorize the importation into the United States of fresh dates of the cultivar Barhi from Israel. Based on the findings of a pest risk analysis, which we made available to the public for review and comment through a previous notice, we believe that the application of one or more designated phytosanitary measures will be sufficient to mitigate the risks of introducing or disseminating plant pests or noxious weeds via the importation of fresh dates of the cultivar Barhi from Israel. In addition, based on the findings of a treatment evaluation document, we are advising the public of our decision to add a treatment schedule for Ceratitis capitata in Barhi dates to the Plant Protection and Quarantine Treatment Manual.

DATES: Effective Date: May 2, 2013.

FOR FURTHER INFORMATION CONTACT: Mr. Marc Phillips, Senior Regulatory Policy Specialist, Regulatory Coordination and Compliance, PPQ, APHIS, 4700 River Road, Unit 156, Riverdale, MD 20737-1236; (301) 851-2114.

SUPPLEMENTARY INFORMATION: Under the regulations in “Subpart—Fruits and Vegetables” (7 CFR 319.56-1 through 319.56-58, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on January 9, 2013 (78 FR 1825-1826, Docket No. APHIS-2012-0004), in which we announced the availability, for review and comment, of a PRA that evaluates the risks associated with the importation into the United States of fresh dates (Phoenix dactylifera L.) of the cultivar Barhi (referred to below as Barhi dates) from Israel.

¹ To view the notice, supporting documents, and the comment we received, go to http://www.regulations.gov/#!docketDetail;D=APHIS-2012-0004.

The phytosanitary treatments regulations contained in part 305 of 7 CFR chapter III (referred to below as the treatment regulations) set out standards for treatments required in parts 301, 318, and 319 of 7 CFR chapter III for fruits, vegetables, and other articles.

In § 305.2, paragraph (b) states that approved treatment schedules are set out in the Plant Protection and Quarantine (PPQ) Treatment Manual.² Section 305.3 sets out a process for adding, revising, or removing treatment schedules in the PPQ Treatment Manual. In that section, paragraph (a) sets out the process for adding, revising, or removing treatment schedules when there is no immediate need to make a change.

² The Treatment Manual is available on the Internet at http://www.aphis.usda.gov/import_export/plants/manuals/index.shtml or by contacting the APHIS PPQ Manuals Unit, 92 Thomas Johnson Drive, Suite 200, Frederick, MD 21702.

One of the measures that we proposed in the notice to mitigate the risk associated with the importation of Barhi dates from Israel was treating the dates with cold treatment for Ceratitis capitata. Because no such cold treatment schedule for Barhi dates previously existed in the PPQ Treatment Manual, in accordance with paragraph (a) of § 305.3 of the treatment regulations, the notice also announced the availability of a treatment evaluation document (TED) that evaluated the efficacy of cold treatment for Barhi dates as a mitigation for C. capitata, and described a cold treatment schedule for C. capitata in Barhi dates that we proposed to add to the PPQ Treatment Manual.

We solicited comments on the notice for 60 days ending on March 11, 2013. We received one comment by that date, from a private citizen. The commenter supported the importation of Barhi dates from Israel into the United States.

Therefore, in accordance with the regulations in § 319.56-4(c)(2)(ii), we are announcing our decision to authorize the importation into the United States of fresh Barhi dates from Israel subject to the following phytosanitary measures:

• The dates may be imported into the United States in commercial consignments only;

• The dates must be treated in accordance with 7 CFR part 305 for C. capitata; and

• The dates must be accompanied by a phytosanitary certificate issued by the national plant protection organization of Israel stating that the consignment has begun or has undergone treatment T107-i, with the additional declaration stating that the fruit in the consignment was inspected and found free of Mauginiella scaettae.

These conditions will be listed in the Fruits and Vegetables Import Requirements database (available at http://www.aphis.usda.gov/favir). In addition to these specific measures, Barhi dates from Israel will be subject to the general requirements listed in § 319.56-3 that are applicable to the importation of all fruits and vegetables. Further, for fruits and vegetables requiring treatment as a condition of entry, the phytosanitary treatments regulations in 7 CFR part 305 contain administrative and procedural requirements that must be observed in connection with the application and certification of specific treatments.

In addition, in accordance with the regulations in § 305.3(a)(2), we are announcing our decision to add a new cold treatment schedule T107-i for C. capitata in Barhi dates, as described in the TED, to the PPQ Treatment Manual. The new treatment will be listed in the PPQ Treatment Manual, which is available at the Web address and mailing address in footnote 2 of this document.

Authority: 7 U.S.C. 450, 7701-7772, and 7781-7786; 21 U.S.C. 136 and 136a; 7 CFR 2.22, 2.80, and 371.3.

Done in Washington, DC, this 26th day of April 2013.
Kevin Shea,
Acting Administrator, Animal and Plant Health Inspection Service.

[FR Doc. 2013-10384 Filed 5-1-13; 8:45 am]

BILLING CODE 3410-34-P